DEPARTMENT OF HEALTH AND HUMAN SERVICES

Centers for Disease Control and Prevention

Agency for Toxic Substances and Disease Registry (ATSDR); Public Meeting of the Citizens Advisory Committee on Public Health Service (PHS) Activities and Research at Department of Energy (DOE) Sites: Oak Ridge Reservation Health Effects Subcommittee

Name: Public meeting of the Citizens Advisory Committee on PHS Activities and Research at DOE Sites: Oak Ridge Reservation Health Effects Subcommittee (ORRHES).

Time and Date: 12 p.m.-6 p.m., March 22, 2005.

Place: Oak Ridge Mall, Alpine Meeting Room, 333 East Main Street, Oak Ridge, Tennessee. Telephone: (865) 482-2008.

Status: Open to the public, limited only by the space available. The meeting room accommodates approximately 50 people.

Background: A memorandum of Understanding (MOU) was signed in October 1990 and renewed in September 2000 between ATSDR and DOE. The MOU delineates the responsibilities and procedures for ATSDR's public health activities at DOE sites required under sections 104, 105, 107, and 120 of the Comprehensive Environmental Response, Compensation, and Liability Act (CERCLA or “Superfund”). These activities include health consultations and public health assessments (PHA) at DOE sites listed on, or proposed for, the Superfund National Priorities List and at sites that are the subject of petitions from the public; and other health-related activities such as epidemiologic studies, health surveillance, exposure and disease registries, health education, substance-specific applied research, emergency response, and preparation of toxicological profiles.

In addition, under an MOU signed in December 1990 with DOE and replaced by an MOU signed in 2000, the Department of Health and Human Services (HHS) has been given the responsibility and resources for conducting analytic epidemiologic investigations of residents of communities in the vicinity of DOE facilities, workers at DOE facilities, and other persons potentially exposed to radiation or to potential hazards from non-nuclear energy production and use. HHS has delegated program responsibility to the Centers for Disease Control and Prevention (CDC). Community involvement is a critical part of ATSDR's and CDC's energy-related research and activities, and input from members of the ORRHES is part of these efforts.

Purpose: The purpose of this meeting is to address issues that are unique to community involvement with the ORRHES, and to provide agency updates.

Matters To Be Discussed: agenda items will include a brief discussion on the ATSDR project management plan and the schedule of PHA's to be released in FY2005-2006; overall health communication plan; Y-12 PHA Video; launch of the new ATSDR/ORRHES website; updates and recommendations from the Exposure Evaluation, Community Concerns and Communications, and Health Outcome Data Workgroups; and agency updates.

Agenda items are subject to change as priorities dictate.

For Further Information Contact: Marilyn Horton, Designated Federal Official and Committee Management Specialist, Division of Health Assessment and Consultation, ATSDR, 1600 Clifton Road, NE. M/S E-32 Atlanta, Georgia 30333, telephone 1-888-42-ATSDR (28737), fax 404/498-1744.

The Director, Management Analysis and Services Office, has been delegated the authority to sign Federal Register notices pertaining to announcements of meetings and other committee management activities, for both CDC and ATDSR.

Dated: February 11, 2005.
Alvin Hall,
Director, Management Analysis and Services Office, Centers for Disease Control and Prevention.

[FR Doc. 05-3051 Filed 2-16-05; 8:45 am]

BILLING CODE 4163-18-P